DEPARTMENT OF HEALTH AND HUMAN SERVICES

Centers for Medicare & Medicaid Services

42 CFR Part 413

Principles of Reasonable Cost Reimbursement; Payment for End-Stage Renal Disease Services; Prospectively Determined Payment Rates for Skilled Nursing Facilities; Payment for Acute Kidney Injury Dialysis

CFR Correction

This rule is being published by the Office of the Federal Register to correct an editorial or technical error that appeared in the most recent annual revision of the Code of Federal Regulations.

In Title 42 of the Code of Federal Regulations, Parts 400 to 413, revised as of October 1, 2023, amend section 413.404 by reinstating paragraphs (b)(3)(ii)(C)(4) through (7) to read as follows:

§ 413.404 Standard acquisition charge.

* * * * *

(b) * * *

(3) * * *

(ii) * * *

(C) * * *

(4) Costs of tissue typing services, including those furnished by independent laboratories.

(5) Organ preservation and perfusion costs.

(6) General routine and special care service costs (for example, intensive care unit or critical care unit services related to the donor).

(7) Operating room and other inpatient ancillary service costs.

* * * * *

[FR Doc. 2024-05210 Filed 3-8-24; 8:45 am]

BILLING CODE 0099-10-P